DEPARTMENT OF LABOR

Employment and Training Administration

[SGA/DFA 02-108]

Solicitation for Grant Applications (SGA); Grants for Small Faith-Based and Community-Based Non-Profit Organizations

AGENCY: Employment and Training Administration (ETA), Labor.

ACTION: Notice; corrections.

SUMMARY: The Employment and Training Administration published a document in the Federal Register of April 17, 2002, concerning the availability of grant funds to award a grant to “grass-roots” organizations or small faith-based and community-based non-profit organizations with the ability to connect to the nation's workforce development system. The document contained incorrect criteria information.

FOR FURTHER INFORMATION CONTACT: Linda Forman, Grants Management Specialist, Division of Federal Assistance, Fax (202) 693-2879.

Corrections

In the Federal Register of April 17, 2002, in FR Doc. 02-9259, on page 18931, in the first column, correct to read:

FOR FURTHER INFORMATION CONTACT: Questions should be faxed to Linda Forman, Grants Management Specialist, Division of Federal Assistance, Fax (202) 693-2879.

On page 18933, in the second column, correct to read:

Performance History With Grants Management (10 points)

The applicant must provide a statement of its capability/performance history in providing the services proposed in its Statement of Work. The Department will be evaluating applications based on scope, strength, and record of achievement. Applicant may provide a recent history of any involvement as a partner or provider in the Workforce Development system.

Signed at Washington, DC, this 19th day of April, 2002.
James W. Stockton,
Grant Officer.

[FR Doc. 02-10047 Filed 4-23-02; 8:45 am]

BILLING CODE 4510-30-P